TENNESSEE VALLEY AUTHORITY

Sunshine Act; (Meeting No. 08-06)

Time and Date: 3 p.m. EST, December 11, 2008, TVA Chattanooga Office Complex, 1101 Market Street, Chattanooga, Tennessee.

Agenda

Old Business

Approval of minutes of October 30, 2008, Board meeting.

New Business

1. Report of the Finance, Strategy, Rates, and Administration Committee.

A. Approval of incentive goals.

B. Rate classification for data centers.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: December 4, 2008.
Maureen H. Dunn,
General Counsel and Secretary.

[FR Doc. E8-29294 Filed 12-5-08; 4:15 pm]

BILLING CODE 8120-01-P